SECURITIES AND EXCHANGE COMMISSION

Sunshine Act Meetings

FEDERAL REGISTER CITATION OF PREVIOUS ANNOUNCEMENT: 83 FR 25496, June 1, 2018.

PREVIOUSLY ANNOUNCED TIME AND DATE OF THE MEETING: Tuesday, June 5, 2018 at 10:00 a.m.

CHANGES IN THE MEETING: The Open Meeting scheduled for Tuesday, June 5, 2018 at 10:00 a.m. has been changed to Tuesday, June 5, 2018 at 11:30 a.m. The following items will not be considered during the Commission's Open Meeting:

• Whether to adopt a new rule as well as amendments to rules and forms to provide certain registered investment companies (“funds”) with an optional method to transmit shareholder reports.

• whether to issue a release requesting comment about processing fees for delivering shareholder reports and other materials to fund investors.

• whether to issue a release requesting comment from individual investors and other interested parties on how to enhance the delivery, design, and content of fund disclosures, including shareholder reports and prospectuses.

CONTACT PERSON FOR MORE INFORMATION: For further information and to ascertain what, if any, matters have been added, deleted or postponed, please contact the Office of the Secretary at (202) 551-5400.

Dated: June 4, 2018.
Brent J. Fields,
Secretary.

[FR Doc. 2018-17390 Filed 8-9-18; 11:15 am]

BILLING CODE 8011-01-P